DEPARTMENT OF TRANSPORTATION

Research and Special Programs Administration

Pipeline Safety: Revised Natural Gas Transmission Pipeline Incident and Annual Report Forms

AGENCY: Research and Special Programs Administration, Department of Transportation.

ACTION: Notice, Correction.

SUMMARY: In the Federal Register of June 5, 2002, (67 FR 38698) the Research and Special Programs Administration published a Notice document to owners and operators of natural gas transmission systems, issuing an Advisory Bulletin to inform gas transmission pipeline owners and operators that revised forms for incident reporting for gas transmission and gathering systems and annual reporting for gas transmission and gathering systems are ready and available for use. The document contained the wrong Advisory Bulletin number. This document corrects the Advisory Bulletin number from ADB-02-01 to the correct number ADB-02-02.

EFFECTIVE DATE: June 5, 2002.

FOR FURTHER INFORMATION CONTACT: Roger Little, (202) 366-4569, or by e-mail, roger.little@rspa.dot.gov. This document can be viewed at the OPS home page at http://ops.dot.gov.

Issued in Washington, DC on July 12, 2002.
Stacey L. Gerard,
Associate Administrator for Pipeline Safety.

[FR Doc. 02-18034 Filed 7-16-02; 8:45 am]

BILLING CODE 4910-60-P